DEPARTMENT OF HEALTH AND HUMAN SERVICES

Centers for Disease Control and Prevention

Disease, Disability, and Injury Prevention and Control Special Emphasis Panel: Mining Safety and Health Training and Translation Center, Request for Applications OH-04-005

In accordance with section 10(a)(2) of the Federal Advisory Committee Act (Pub. L. 92-463), the Centers for Disease Control and Prevention (CDC) announces the following meeting:

Name: Disease, Disability, and Injury Prevention and Control Special Emphasis Panel (SEP): Mining Safety and Health Training and Translation Center, Request for Applications OH-04-005.

Times and Dates: 8 a.m.-8:30 a.m., June 16, 2004 (Open). 8:30 a.m.-5 p.m., June 16, 2004 (Closed). 8 a.m.-5 p.m., June 17, 2004 (Closed).

Place: Hilton Alexandria Old Town, 1767 King Street, Alexandria, VA 22314; phone (703) 837-0440.

Status: Portions of the meeting will be closed to the public in accordance with provisions set forth in section 552b(c) (4) and (6), Title 5 U.S.C., and the Determination of the Director, Management Analysis and Services Office, CDC, pursuant to Pub. L. 92-463.

Matters To Be Discussed: The meeting will include the review, discussion, and evaluation of applications received in response to Request for Applications OH-04-005.

For Further Information Contact: S. Price Connor, Ph.D., Research Grants Program Officer, Office of Extramural Programs, National Institute for Occupational Safety and Health, CDC, 1600 Clifton Road, NE., MS-E20, Atlanta, GA 30333; telephone (404) 498-2511.

The Director, Management Analysis and Services Office, has been delegated the authority to sign Federal Register notices pertaining to announcements of meetings and other committee management activities, for both CDC and the Agency for Toxic Substances and Disease Registry.

Dated: April 13, 2004.
Alvin Hall,
Director, Management Analysis and Services Office, Centers for Disease Control and Prevention.

[FR Doc. 04-9943 Filed 4-30-04; 8:45 am]

BILLING CODE 4163-19-P